DEPARTMENT OF COMMERCE

Foreign-Trade Zones Board

[Order No. 1213]

Expansion of Foreign-Trade Zone 39, Dallas/Fort Worth, TX

Pursuant to its authority under the Foreign-Trade Zones Act of June 18, 1934, as amended (19 U.S.C. 81a-81u), the Foreign-Trade Zones Board (the Board) adopts the following Order:

Whereas, the Dallas/Fort Worth International Airport Board, grantee of Foreign-Trade Zone 39, submitted an application to the Board for authority to expand FTZ 39 to include two new sites at the Meacham Airport complex (Site 5) in Fort Worth, and at the Redbird Airport complex (Site 6) in Dallas, within the Dallas/Fort Worth Customs port of entry area (FTZ Docket 26-2001; filed 6/20/01);

Whereas, notice inviting public comment was given in the Federal Register (66 FR 34150, 6/27/01) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 39 is approved, subject to the Act and the Board's regulations, including Section 400.28, and further subject to the Board's standard 2,000-acre activation limit for the overall zone project.

Signed at Washington, DC, this 29th day of March 2002.
Faryar Shirzad,
Assistant Secretary of Commerce for Import Administration, Alternate Chairman, Foreign-Trade Zones Board.

[FR Doc. 02-8560 Filed 4-8-02; 8:45 am]

BILLING CODE 3510-DS-P